DEPARTMENT OF TRANSPORTATION

Federal Aviation Administration

Notice of Intent To Rule on Application to Impose and Use the Revenue from a Passenger Facility Charge (PFC) at Sawyer International Airport, Marquette, MI

AGENCY: Federal Aviation Administration (FAA), DOT.

ACTION: Notice of Intent to Rule on Application.

SUMMARY: The FAA proposes to rule and invites public comment on the application to impose and use the revenue from a PFC at Sawyer International Airport under the provisions of the Aviation Safety and Capacity Expansion Act of 1990 (Title IX of the Omnibus Budget Reconciliation Act of 1990) (Public Law 101-508) and Part 158 of the Federal Aviation Regulations (14 CFR part 158).

DATES: Comments must be received on or before May 11, 2000.

ADDRESSES: Comments on this application may be mailed or delivered in triplicate to the FAA at the following address: Federal Aviation Administration, Detroit Airports District Office, Willow Run Airport, East, 8820 Beck Road, Belleville, MI 48111.

In addition, one copy of any comments submitted to the FAA must be mailed or delivered to Mr. Harold R. Pawley, Airport Manager, of the Sawyer International Airport, at the following address: 225 Airport Avenue, Gwinn, MI 49841.

Air carriers and foreign air carriers may submit copies of written comments previously provided to the County of Marquette under section 158.23 of Part 158.

FOR FURTHER INFORMATION CONTACT: Mr. Jon Gilbert, Program Manager, Federal Aviation Administration, Detroit Airports District Office, Willow Run Airport, East, 8820 Beck Road, Belleville, MI 48111 (734-487-7281). The application may be reviewed in person at this same location.

SUPPLEMENTARY INFORMATION: The FAA proposes to rule and invites public comment on the application to impose and use the revenue from a PFC at Sawyer International Airport under the provisions of the Aviation Safety and Capacity Expansion Act of 1990 (Title IX of the Omnibus Budget Reconciliation Act of 1990) (Public Law 101-508) and part 158 of the Federal Aviation Regulations (14 CFR part 158).

On March 22, 2000, the FAA determined that the application to impose and use the revenue from a PFC submitted by Marquette County was substantially complete within the requirements of section 158.25 of Part 158. The FAA will approve or disapprove the application, in whole or in part, no later than July 18, 2000.

The following is a brief overview of the application:

PFC Application No.: 00-05-C-00-SAW.

Level of the proposed PFC: $3.00.

Proposed charge effective date: June 1, 2000.

Proposed charge expiration date: October 30, 2002.

Total estimated PFC revenue: $369,235.00.

Brief description of proposed projects: (1) North Access Road to terminal, (2) FAR Part 77 grading, (3) VOR/DMS, (4) Rehabilitate terminal apron, (5) Rehabilitate hangar, (6) Terminal lighting, (7) Groove Runway 1/19, (8) Runway 1/19 joint repairs, (9) Taxiway relighting, (10) Rehabilitate taxiway and construct taxi streets, (11) ILS paving, (12) Renovate ARFF building, (13) Environmental Assessment for North Access Road and Runway 13/31, (14) North Access Road (design only).

Class or classes of air carriers that the public agency has requested not be required to collect PFC's: None.

Any person may inspect the application in person at the FAA office listed above under “FOR FURTHER INFORMATION CONTACT”.

In addition, any person may, upon request, inspect the application, notice, and other documents germane to the application in person at the Sawyer International Airport.

Issued in Des Plaines, Illinois, on March 29, 2000.
Benito De Leon,
Manager, Planning/Programming Branch, Airports Division, Great Lakes Region.

[FR Doc. 00-8973 Filed 4-10-00; 8:45 am]

BILLING CODE 4910-13-M